NATIONAL FOUNDATION ON THE ARTS AND THE HUMANITIES

National Council on the Arts 180th Meeting

AGENCY: National Endowment for the Arts, National Foundation on the Arts and Humanities.

ACTION: Notice of meeting.

SUMMARY: Pursuant to section 10(a)(2) of the Federal Advisory Committee Act (Pub. L. 92-463), as amended, notice is hereby given that the National Endowment for the Arts will hold a virtual meeting of the National Council on the Arts. Agenda times are approximate.

DATES: November 15, 2013 from 4:15 p.m. to 4:45 p.m. (This meeting replaces the meeting originally scheduled for October 25, 2013, which has been cancelled.)

FOR FURTHER INFORMATION CONTACT: Office of Public Affairs, National Endowment for the Arts, Washington, DC 20506, at 202/682-5570.

SUPPLEMENTARY INFORMATION: The meeting, on Friday, November 15th, will be open to the public. For information about access to the open session of this meeting, go to http://arts.gov/about/national-council-arts. The meeting will begin with opening remarks and updates from the Senior Deputy Chairman. Presentation of Guidelines will be at 4:25 p.m. and voting on recommendations for funding and rejection at 4:30 p.m. The meeting will conclude with discussion of other business at 4:35 p.m. and will adjourn at 4:45 p.m.

If, in the course of the open session discussion, it becomes necessary for the Council to discuss non-public commercial or financial information of intrinsic value, the Council will go into closed session pursuant to subsection (c)(4) of the Government in the Sunshine Act, 5 U.S.C. 552b, and in accordance with the February 15, 2012 determination of the Chairman. Additionally, discussion concerning purely personal information about individuals, such as personal biographical and salary data or medical information, may be conducted by the Council in closed session in accordance with subsection (c)(6) of 5 U.S.C. 552b.

Any interested persons may attend, as observers, Council discussions and reviews that are open to the public. If you need special accommodations due to a disability, please contact the Office of Accessibility, National Endowment for the Arts, 1100 Pennsylvania Avenue NW., Washington, DC 20506, 202/682-5733, Voice/T.T.Y. 202/682-5496, at least seven (7) days prior to the meeting.

Dated: October 18, 2013.
Kathy Plowitz-Worden,
Panel Coordinator, Office of Guidelines and Panel Operations.

[FR Doc. 2013-24842 Filed 10-22-13; 8:45 am]

BILLING CODE 7537-01-P